INTERNATIONAL TRADE COMMISSION

[Investigation Nos. 701-TA-479 and 731-TA-1183-1184 (Final)]

Galvanized Steel Wire From China and Mexico

Determinations

On the basis of the record ¹ developed in the subject investigations, the United States International Trade Commission (Commission) determines,² pursuant to sections 705(b) and 735(b) of the Tariff Act of 1930 (19 U.S.C. 1671d(b)) and (19 U.S.C. 1673d(b)) (the Act), that an industry in the United States is not materially injured or threatened with material injury, and the establishment of an industry in the United States is not materially retarded, by reason of imports from China of galvanized steel wire, provided for in subheadings 7217.20.30, 7217.20.45, and 7217.90.10 ³ of the Harmonized Tariff Schedule of the United States, that the U.S. Department of Commerce has determined are subsidized by the Government of China and sold in the United States at less than fair value (LTFV). The Commission further determines,² pursuant to section 735(b) of the Act (19 U.S.C. 1673d(b)), that an industry in the United States is not materially injured or threatened with material injury, and the establishment of an industry in the United States is not materially retarded, by reason of imports from Mexico of galvanized steel wire, provided for in subheadings 7217.20.30, 7217.20.45, and 7217.90.10 ³ of the Harmonized Tariff Schedule of the United States, that the U.S. Department of Commerce has determined are sold in the United States at less than fair value (LTFV).

¹ The record is defined in sec. 207.2(f) of the Commission's Rules of Practice and Procedure (19 CFR 207.2(f)).

² Vice Chairman Williamson and Commissioner Pinkert dissenting.

³ Galvanized steel wire may also enter under HTS statistical reporting numbers 7229.20.0015, 7229.20.0090, 7229.90.5008, 7229.90.5016, 7229.90.5031, and 7229.90.5051.

Background

The Commission instituted these investigations effective March 31, 2011, following receipt of petitions filed with the Commission and Commerce by Davis Wire Corporation, Irwindale, CA; Johnstown Wire Technologies, Inc., Johnstown, PA; Mid-South Wire Company, Inc., Nashville, TN; National Standard, LLC/DW-National Standard-Niles, LLC, Niles, MI; and Oklahoma Steel & Wire Company, Inc., Madill, OK. The final phase of the investigations was scheduled by the Commission following notification of preliminary determinations by Commerce that imports of galvanized steel wire from China were subsidized within the meaning of section 703(b) of the Act (19 U.S.C. 1671b(b)) and that imports of galvanized steel wire from China and Mexico were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 25, 2011 (76 FR 72721). The hearing was held in Washington, DC, on March 22, 2012, and all persons who requested the opportunity were permitted to appear in person or by counsel.

The Commission transmitted its determinations in these investigations to the Secretary of Commerce on May 8, 2012. The views of the Commission are contained in USITC Publication 4323 (May 2012), entitled Galvanized Steel Wire from China and Mexico: Investigation Nos. 701-TA-479 and 731-TA-1183-1184 (Final).

Issued: May 8, 2012.
By order of the Commission.
James R. Holbein,
Secretary to the Commission.

[FR Doc. 2012-11556 Filed 5-11-12; 8:45 am]

BILLING CODE 7020-02-P